DEPARTMENT OF TRANSPORTATION

Pipeline and Hazardous Materials Safety Administration

Hazardous Materials: Notice of Application for Special Permits

AGENCY: Office of Hazardous Materials Safety, Pipeline and Hazardous Materials Safety Administration, (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 19, 2015.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on May 8, 2015.
Donald Burger,
Chief, General Approvals and Permits.

Application No. | Docket No. | Applicant | Regulation(s) affected | Nature of special permits thereof
16450-N |  | U.S. Department of Energy, Washington, DC | 49 CFR 173.242 | To authorize the transportation in commerce of lithium hydride in alternative bulk packagings. (mode 1)
16452-N |  | The Procter & Gamble Company, Cincinnati, OH | 49 CFR parts 171-180 | To authorize the transportation in commerce of small quantities of a Division 2.2 liquefied gas in small, non-refillable, plastic receptacles as not subject to the Hazardous Materials Regulations. (modes 1, 2, 3, 4, 5)
16460-N |  | Florida Power and Light Company, West Palm Beach, FL | 49 CFR 172.201(e) | To authorize the transportation in commerce of lithium ion batteries that are permanently mounted in small trailers without having to retain a record of each shipment made when using a “permanent shipping paper.” (mode 1)
16461-N |  | Coastal Hydrotesting LLC, Baltimore, MD | 49 CFR 172.203(a), 172.301(c), 173.302a(b), 180.205 | To authorize the transportation in commerce of certain cylinders that have been tested using ultrasonic examination with visual external examination in lieu of hydrostatic testing and internal visual inspection. (modes 1, 2, 3, 4, 5)
16462-N |  | Helimax Aviation, Inc., McClellan, CA | 49 CFR 172.101 Hazardous Materials Table Column (9B), 172.200, 172.204(c)(3), 172.300, 172.400, 172.500, 175.30, part 17B | To authorize the transportation in commerce of certain hazardous materials by 14 CFR part 133 Rotorcraft External Load Operations transporting hazardous materials attached to or suspended from an aircraft without being subject to certain hazard communication requirements, quantity limitations and certain loading and stowage requirements. (mode 4)
16469-N |  | ACS UE Testing LLC, Denver, CO | 49 CFR 172.203(a), 172.301(c), 180.205 | To authorize the transportation in commerce of certain cylinders that have been tested using ultrasonic examination with visual external examination in lieu of hydrostatic testing and internal visual inspection. (modes 1,2)

[FR Doc. 2015-11817 Filed 5-19-15; 8:45 am]

BILLING CODE 4909-60-M